DEPARTMENT OF TRANSPORTATION

Maritime Administration

[Docket Number 2010-0103]

California Green Trade Corridor Transportation Investment Generating Economic Recovery (TIGER)

AGENCY: Department of Transportation, Maritime Administration.

ACTION: Notice of availability of Finding of No Significant Impact.

SUMMARY: Notice is hereby given that the Maritime Administration, of the Department of Transportation (DOT), has made available to interested parties the Finding of No Significant Impact (FONSI) for the California Green Trade Corridor Transportation Investment Generating Economic Recovery (TIGER) grant. An environmental assessment (EA) and FONSI have been prepared pursuant to the National Environmental Policy Act (NEPA) (42 U.S.C. 4231 et seq.) in accordance with the Council on Environmental Quality (CEQ) regulations for implementing the procedural provisions of NEPA (40 CFR parts 1500-1508).

The purpose of the EA is to evaluate the potential environmental impacts from two separate marine highway projects running from the Ports of West Sacramento and Stockton to the Port of Oakland. The marine highway services consist of a tug and barge configuration and are scheduled to operate once a week.

FOR FURTHER INFORMATION CONTACT: Daniel E. Yuska Jr., 1200 New Jersey Ave., SE., Washington, DC 20590; phone: (202) 366-0714; or e-mail: Daniel.yuska@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours.

A copy of the Final EA and Finding of No Significant Impact can be obtained or viewed online at http://www.regulations.gov. The files are in a portable document format (pdf); in order to review or print the document, users need to obtain a free copy of Acrobat Reader. The Acrobat Reader can be obtained from http://www.adobe.com/prodindex/acrobat/readstep.html.

By order of the Maritime Administrator.
Dated: November 15, 2010.
Christine Gurland,
Secretary, Maritime Administration.

[FR Doc. 2010-29173 Filed 11-18-10; 8:45 am]

BILLING CODE 4910-81-P